DEPARTMENT OF TRANSPORTATION

Federal Motor Carrier Safety Administration

[Docket No. FMCSA-2002-12334]

Inquiries Regarding Graduated Commercial Driver's Licensing; Qualifications, Testing and Licensing Standards

AGENCY: Federal Motor Carrier Safety Administration (FMCSA), DOT.

ACTION: Notice of Inquiry and request for comments.

SUMMARY: The FMCSA invites comments responding to a series of questions concerning the need for and potential benefits and costs of implementing a graduated commercial driver's license (GCDL) for commercial motor vehicle (CMV) drivers. This action is required by section 4019 of the Transportation Equity Act for the 21st Century (TEA-21). A graduated driver's license is a system designed to ease beginning drivers into the traffic environment under controlled exposure to progressively more difficult driving experiences. A graduated or provisional licensing system helps novice drivers improve their driving skills and helps them acquire on-the-road experience under less risky conditions by progressing, or graduating, through driver licensing stages before unrestricted licensure. FMCSA wants to determine if this concept can be successfully adapted to novice CMV drivers.

DATES: Send your comments on or before May 27, 2003.

ADDRESSES: You may mail or hand-deliver your comments to the Dockets Management System (DMS), U.S. Department of Transportation, Room Plaza-401, 400 Seventh Street, SW., Washington, DC 20590-0001. Make sure you include the docket number FMCSA-2002-12334 at the beginning of your comments. If you wish to receive confirmation that your comments were received, include a self-addressed, stamped envelope.

You may send your comments electronically to the DMS Web site at: http://dms.dot.gov; or you may fax them to (202) 493-2251. All comments are available for public viewing at the Dockets Management facility between 9 a.m. and 5 p.m., Monday through Friday, except Federal holidays. The Dockets Management facility is located on the Plaza Level of the Nassif Building at the above address. You may also view comments electronically at the DMS Web site, http://dms.dot.gov. It is available 24 hours each day, 365 days each year. Please follow the instructions on-line.

You may download a copy of this notice by using a computer, modem and suitable communications software from the Government Printing Office Electronic Bulletin Board Service at (202) 512-1661. You can also get it through the Federal Register Web page at: http://www.access.gpo.gov/nara.

FOR FURTHER INFORMATION CONTACT: Mr. Robert Redmond, (202) 366-5014, State Programs Division (MC-ESS), Federal Motor Carrier Safety Administration, 400 Seventh Street, SW., Washington, DC 20590; or e-mail Robert.Redmond @fmcsa.dot.gov. Office hours are from 8:15 a.m. to 4:45 p.m. e.t., Monday through Friday, except Federal Holidays.

SUPPLEMENTARY INFORMATION:

Background

Section 4019 of the Transportation Equity Act for the 21st Century (TEA-21), Public Law 105-178, requires that the agency review the adequacy of the current commercial driver's license (CDL) testing process, make improvements and assess the merits of implementing a graduated commercial driver's license (GCDL).

What Is a Graduated Commercial Driver's License

The National Highway Traffic Safety Administration (NHTSA) describes the concept of a graduated driver's licensing as “a system designed to ease beginning drivers into the traffic environment under controlled exposure to progressively more difficult driving experiences. This system helps improve their driving skills and helps them acquire on-the-road experience under less risky conditions by progressing, or graduating, through driver licensing stages before unrestricted licensure.” FMCSA wants to determine if this concept can be successfully adapted to novice commercial motor vehicle (CMV) drivers.

Questionnaire Format

The following questions were designed to gauge how commercial vehicle drivers, industry groups, and government agencies involved in vehicle operation, regulation, and enforcement feel about a GCDL.

The FMCSA originally intended to distribute the questionnaire to a limited number of persons representing the affected commercial motor vehicle industry. However, it now has decided to expand participation in this study process to anyone with an interest in this important issue by publishing this notice of inquiry. In addition, the answers to these questions will help determine the best way to implement a GCDL, if the FMCSA finds it beneficial to motor carrier safety and industry efficiency.

This notice incorporates information obtained through a series of focus groups with truck and bus drivers, industry representatives, and enforcement and regulatory agency representatives. The focus groups indicated support for a GCDL as a means for improving commercial vehicle safety. These groups were divided, however, over whether drivers between 18 and 21 years of age should be eligible for a GCDL as a means for attracting new entrants into the field and increasing the pool of qualified drivers. Additional information, including the March 1, 1999 report, “Designing a Graduated Commercial Driver's License, A Report on Focus Group Findings,” Final Report, by the Science Applications International Corporation (SAIC), is available in the public docket for viewing and copying through the Docket Management System at: http://dms.dot.gov.

The 16 questions address issues considered important to the commercial vehicle community. Commenters may add narrative comments about the need for, benefits of, potential acceptance of, institutional barriers to, and practicality of a graduated commercial driver licensing system and the likely improvements in highway safety, employment opportunities, and transportation efficiency.

After data from the questions are compiled and evaluated, the FMCSA will present its results and conclusions in a final report on the potential benefits, costs and feasibility of implementing a graduated or provisional CDL program. The results will be used to evaluate the potential for pilot testing the graduated commercial driver's license (GCDL) concept.

The Questions

Please organize and identify your comments by question number. General comments on the GCDL concept and areas that you believe were not addressed in the questionnaire are also welcome.

Information About You

1. Please indicate your primary occupation(s) from the following list:

• Truck driver

• Owner-operator

• Motor coach/bus driver

• Fleet manager/owner

• Company safety director

• Transit system administrator

• Commercial driver trainer

• Motor carrier insurance provider

• Risk assessment specialist

• Labor union representative

• Public interest group

• Enforcement officer (motor carrier safety)

• Motor vehicle administrator (State driver's licenses

• Other

2. Do you think a graduated commercial driver's license (GCDL) is needed?

Regardless of your response to question number 2, please complete the rest of the questions so that we will know your preferences if a GCDL were to be pilot tested or implemented nationally.

Training

3. Should issuance of a GCDL be linked to enrollment in a commercial driving training program?

4. Should the curricula of a commercial driver training program meet widely-endorsed standards for a student to be eligible to receive a GCDL while in training?

5. Approximately how many months/years of entry level training and experience should new drivers receive before “graduating” to an unrestricted CDL?

Driving Record

6. Should an applicant's past driving record be considered in issuing a GCDL?

7. How many of each of the following types of motor vehicle accidents and convictions within the past 12 months should cause an applicant to be denied a GCDL?

• Passenger car or light truck motor vehicle accidents

• Traffic violations and citations

• DUI/DWI convictions

• Controlled substances convictions

• Reckless driving convictions

• Other convictions for motor vehicle traffic control violations

8. Should penalties for drivers holding a GCDL, who have at-fault accidents or moving violations, be more severe than those for drivers with an unrestricted CDL?

Driving Experience

9. How many months/years of passenger car or light truck driving experience should an applicant have before being issued a GCDL?

Restrictions

10. Which of the following restrictions should apply to entry level drivers operating under a GCDL?

• Reduced hours of service

• Limitations on equipment type (e.g., doubles/triples, tank vehicles, motor coaches, etc.)

• Limitations on types of cargo (e.g., hazardous materials, livestock, liquids, etc.)

• Limitations on weather and visibility conditions (e.g., ice, snow, fog, night driving)

• Limitations on geography or terrain features (e.g., mountains)

• Limitations on distance or types of highways (e.g., miles per day, interstate highways, etc.)

• Other

11. Should a fully licensed CDL driver be required to accompany and observe a driver with a GCDL? If yes, for how many weeks/months/years?

Age

12. What is the minimum age at which an applicant should be eligible to receive a Graduated CDL?

13. Assuming that training requirements are met, what is the minimum age at which the holder of a graduated CDL should be eligible to graduate to an unrestricted CDL?

Testing

14. How much testing (knowledge and road test) should be given to GCDL holders prior to issuing an unrestricted CDL?

• Single test to “graduate” to an unrestricted CDL

• Periodically while holding a GCDL until training is complete

• Initial test plus re-test at 1 year after receiving initial GCDL

• Other

Other Factors

15. What other factors do you feel must be addressed in the implementation of a graduated CDL program?

Costs

16. What costs would you or your organization anticipate incurring if a GCDL program is implemented?

Issued on: February 19, 2003.
Annette M. Sandberg,
Acting Administrator.

[FR Doc. 03-4410 Filed 2-24-03; 8:45 am]

BILLING CODE 4910-EX-P